DEPARTMENT OF HOUSING AND URBAN DEVELOPMENT

[Docket No. FR-5752-N-62]

30-Day Notice of Proposed Information Collection: HUD Housing Counseling Program—Application for Approval as a Housing Counseling Agency

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 10, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on April 18, 2014.

A. Overview of Information Collection

Title of Information Collection: HUD Housing Program-Application for Approval as a Housing Counseling Agency.

OMB Approval Number: 2502-0573.

Type of Request: Extension.

Form Number: HUD-9900.

Description of the need for the information and proposed use: The Office of Housing Counseling is responsible for administration of the Department's Housing Counseling Program, authorized by Section 106 of the Housing and Urban Development Act of 1968 (12 U.S.C. The Housing Counseling Program supports the delivery of a wide variety of housing counseling services to homebuyers, homeowners, low- to moderate-income renters, and the homeless. The primary objective of the program is to educate families and individuals in order to help them make smart decisions regarding improving their housing situation and meeting the responsibilities of tenancy and homeownership, including through budget and financial counseling. Counselors also help borrowers avoid predatory lending practices, such as inflated appraisals, unreasonably high interest rates, unaffordable repayment terms, and other conditions that can result in a loss of equity, increased debt, default, and possible foreclosure. Counselors may also provide reverse mortgage counseling to elderly homeowners who seek to convert equity in their homes to pay for home improvements, medical costs, living expenses or other expenses. Additionally, housing counselors may distribute and be a resource for information concerning Fair Housing and Fair Lending. The Housing Counseling Program is instrumental to achievement of HUD's mission. The Program's far-reaching effects support numerous departmental programs, including Federal Housing Administration (FHA) single family housing programs.

Approximately 2,364 HUD-participating agencies provide housing counseling services nation-wide currently. Of these, approximately 970 have been directly approved by HUD. HUD maintains a list of these agencies so that individuals in need of assistance can easily access the nearest HUD-approved housing counseling agency via HUD's Web site, an automated 1-800 Hotline, or a smart phone application. HUD Form 9900, Application for Approval as a Housing Counseling Agency, is necessary to make sure that people who contact a HUD approved agency can have confidence they will receive quality service and these agencies meet HUD requirements for approval.

To participate in HUD's Housing Counseling Program, a housing counseling agency must first be approved by HUD. Approval entails meeting various requirements relating to experience and capacity, including nonprofit status, a minimum of one year of housing counseling experience in the target community, and sufficient resources to implement a housing counseling plan. Eligible organizations include local housing counseling agencies, private or public organizations (including grassroots, faith-based and other community-based organizations) such as nonprofit, state, local or tribal government entities or public housing authorities that meet the Program criteria. HUD uses form HUD-9900 to evaluate whether applying organizations meet minimum requirements to participate in the Housing Counseling Program. The application for approval for HUD-9900 is found at http://www.hud.gov/offices/hsg/sfh/hcc/hccprof13.cfm.

HUD is seeking an extension for the Application for Approval as a Housing Counseling Agency, form HUD-9900. There have been no changes in program eligibility requirements. The form will be updated to reflect changes in Offices responsible for processing applications from the Single Family Program Support Division to the Office of Housing Counseling, and require electronic submission of applications through email in place of paper submissions. Based on the most recent information available (as of February 2014).

Respondents (i.e. affected public): Not-for-profit institutions.

Estimated Number of Respondents: 66.

Estimated Number of Response: 66.

Frequency of Response: annually.

Average Hours per Response: 71.

Total Estimated Burdens: 4686.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35

Dated: August 4, 2014.
Colette Pollard,
Department Reports Management Officer, Office of the Chief Information Officer.

[FR Doc. 2014-18946 Filed 8-8-14; 8:45 am]

BILLING CODE 4210-67-P